DEPARTMENT OF HEALTH AND HUMAN SERVICES

Meetings of the National Preparedness and Response Science Board and the National Advisory Committee on Children and Disasters

AGENCY: Office of the Secretary, Department of Health and Human Services.

ACTION: Notice.

SUMMARY: As stipulated by the Federal Advisory Committee Act, the Department of Health and Human Services (HHS) is hereby giving notice that the National Preparedness and Response Science Board (NPRSB) will hold a public meeting on April 12, 2017, and a joint public meeting with the National Advisory Committee on Children and Disasters (NACCD) on April 13, 2017. Notice of publication for the April 12-13, 2017 meeting is less than 15 calendar days prior to the meeting, as exceptional circumstances exist. Pursuant to the Federal Advisory Committee Management Regulations, the notice for this meeting is given less than 15 calendar days prior to the meeting due to exceptional circumstance. It is imperative that the National Preparedness and Response Science Board (NPRSB) and the National Advisory Committee (NACCD) hold this April 12-13, 2017 meeting to accommodate the scheduling priorities of key participants. Given HHS's need for the NPRSB and NACCD's ongoing advice, and the scheduling difficulties of selecting alternative dates, the agency deems it important for the advisory committees to meet on April 12-13, 2017, despite the late notice.

DATES: The NPRSB will hold a public meeting on April 12, 2017 from 9:00 a.m. to 11:00 a.m. EST. The NPRSB and NACCD will hold a joint public meeting on April 13, 2017, from 9:00 p.m. to 4:00 p.m. EST. The agenda is subject to change as priorities dictate.

ADDRESSES: Individuals who wish to participate should send an email under “Contact Us” to http://www.phe.gov/nprsb and http://www.phe.gov/naccd with “NACCD Registration” or “NPRSB Registration” in the subject line. The meeting will occur in person and via teleconference. To attend in-person or via teleconference, please visit the NPRSB and NACCD Web sites at http://www.phe.gov/nprsb and http://www.phe.gov/naccd for further instructions.

FOR FURTHER INFORMATION CONTACT: CDR Evelyn Seel, MPH at (202) 205-7960. Please submit an inquiry via the NPRSB Contact Form or the NACCD Contact Form located at http://www.phe.gov/NACCDComments or http://www.phe.gov/NBSBComments.

SUPPLEMENTARY INFORMATION: Pursuant to section 319M of the PHS Act (42 U.S.C. 247d-7f) and section 222 of the PHS Act (42 U.S.C. 217a), HHS established the NPRSB. The Board shall provide expert advice and guidance to the Secretary on scientific, technical, and other matters of special interest to HHS regarding current and future chemical, biological, nuclear, and radiological agents, whether naturally occurring, accidental, or deliberate. The NPRSB may also provide advice and guidance to the Secretary and/or the Assistant Secretary for Preparedness and Response (ASPR) on other matters related to public health emergency preparedness and response. Pursuant to the Federal Advisory Committee Act (FACA) of 1972 (5 U.S.C., Appendix, as amended), and section 2811A of the Public Health Service (PHS) Act (42 U.S.C. 300hh-10a), as added by section 103 of the Pandemic and All Hazards Preparedness Reauthorization Act of 2013 (Pub. L. 113-5), the HHS Secretary, in consultation with the Secretary of the U.S. Department of Homeland Security, established the NACCD. The purpose of the NACCD is to provide advice and consultation to the HHS Secretary with respect to the medical and public health needs of children in relation to disasters.

Background: The NPRSB public meeting on April 12, 2017, will be dedicated to the swearing-in of one new voting member and the re-appointment of five existing members. The NPRSB and NACCD will hold a joint public meeting and ASPR Day on April 13, 2017, with presentations on ASPR priorities, the National Health Security Strategy, and stakeholder updates. The Designated Federal Official of the NPRSB and the NACCD may add subsequent agenda topics as priorities dictate. Any additional agenda topics will be available on the April 12 and 13, 2017 meeting Web pages of the NPRSB and NACCD, which are available at http://www.phe.gov/nprsb and http://www.phe.gov/naccd.

Availability of Materials: The joint meeting agenda and materials are posted prior to the meeting on April 12 and 13, 2017 meeting Web pages at http://www.phe.gov/nprsb and http://www.phe.gov/naccd.

Procedures for Providing Public Input: Members of the public attend in-person or by teleconference via a toll-free call-in phone number, which is available on the NPRSB or NACCD Web sites at http://www.phe.gov/nprsb and http://www.phe.gov/naccd. All members of the public are encouraged to provide written comment to the NPRSB and NACCD. Submit all written comments prior to April 12, 2017, to their Web sites, under “Contact Us,” at http://www.phe.gov/nprsb and http://www.phe.gov/naccd with “NACCD Public Comment” or “NPRSB Public Comment” as the subject line. The NACCD and NPRSB receive any public comments by close of business one week prior to the teleconference.

Dated: April 4, 2017.
George W. Korch, Jr.,
Acting Assistant Secretary for Preparedness and Response.

[FR Doc. 2017-07051 Filed 4-7-17; 8:45 am]

BILLING CODE P